EQUAL EMPLOYMENT OPPORTUNITY COMMISSION

Sunshine Act Meeting

AGENCY HOLDING THE MEETING: Equal Employment Opportunity Commission.

FEDERAL REGISTER CITATION OF PREVIOUS ANNOUNCEMENT: 77 FR 24201, Monday, April 23, 2012.

PREVIOUSLY ANNOUNCED TIME AND DATE OF MEETING: Wednesday, April 25, 2012, 9:30 a.m. Eastern Time.

CHANGE IN THE MEETING:

Open Session

Item No 1. Announcement of Notation Votes,

Item No 2. Enforcement Guidance on the Consideration of Arrest and Conviction Records in Employment Decisions under Title VII of the Civil Rights Act of 1964, and

Item No 3. Enforcement Guidance on Reasonable Accommodation and Undue Hardship under the Americans with Disabilities Act, as amended has been removed from the Agenda.

CONTACT PERSON FOR MORE INFORMATION: Bernadette B. Wilson, Acting Executive Officer on (202) 663-4077.

Dated: April 25, 2012.
Bernadette B. Wilson,
Acting Executive Officer, Executive Secretariat.

[FR Doc. 2012-10344 Filed 4-25-12; 4:15 pm]

BILLING CODE 6570-01-P